DEPARTMENT OF AGRICULTURE

Animal and Plant Health Inspection Service

7 CFR Parts 300, 301, 302, 318, 319, 322, 330, 340, 351, 352, 353, 354, 355, 356, 360, 361, 371, 372, 380

9 CFR Parts 1, 2, 3, 11, 49, 50, 51, 52, 53, 54, 70, 71, 72, 73, 74, 75, 77, 79, 80, 82, 85, 89, 91, 92, 94, 95, 96, 97, 98, 99, 101, 102, 103, 104, 105, 106, 107, 108, 109, 112, 113, 114, 115, 116, 117, 118, 122, 123, 124, 145, 147, 151, 156, 160, 161, 162, 166, 167

[Docket No. 00-063-2]

Plant Protection Act; Revisions to Authority Citations

AGENCY: Animal and Plant Health Inspection Service, USDA.

ACTION: Final rule.

SUMMARY: We are amending the regulations in title 7, chapter III, and title 9, chapter I, to reflect the enactment of the Plant Protection Act (Pub. L. 106-224, 114 Stat. 438, 7 U.S.C. 7701-7772) in our lists of legal authorities. We are also removing or revising citations and references to plant protection and quarantine statutes that were repealed as a result of the enactment of this law. In addition, we are updating the authority citations throughout our regulations in titles 7 and 9, where appropriate, to remove duplicative or outdated citations and to reflect recent changes to the internal organization, functions, and delegations of authority within the Animal and Plant Health Inspection Service. We are also making other nonsubstantive editorial changes in the regulations for the sake of clarity.

EFFECTIVE DATE: April 27, 2001.

FOR FURTHER INFORMATION CONTACT: Ms. Cynthia Howard, Chief, Regulatory Analysis and Development, PPD, APHIS, Suite 3C03, 4700 River Road Unit 118, Riverdale, MD 20737-1238, (301) 734-5957.

SUPPLEMENTARY INFORMATION:

Background

In a final rule published in the Federal Register on August 14, 2000 (65 FR 49471-49472, Docket No. 00-063-1), the Secretary of Agriculture delegated to the Animal and Plant Health Inspection Service (APHIS) the authority to carry out title IV of the Agricultural Risk Protection Act of 2000, known as the Plant Protection Act (PPA ) (Title IV, Pub. L. 106-224, 114 Stat. 438, 7 U.S.C. 7701-7772). In that final rule, we also stated our intent to further amend titles 7 and 9 of the Code of Federal Regulations (referred to below as the regulations) in a separate rulemaking action to reflect the PPA in our lists of legal authorities and to make any other changes deemed necessary as a result of the enactment of that law. Accordingly, we are now amending the regulations to reference the PPA in the authority citations, and we are removing references to statutes that were repealed upon enactment of the PPA.

The PPA repealed the following statutes:

1. The Plant Quarantine Act (7 U.S.C. 151-164a, 167);

2. The Federal Plant Pest Act (7 U.S.C. 150aa et seq., 7 U.S.C. 147a note);

3. Parts of the Federal Noxious Weed Act of 1974 (7 U.S.C. 2802 through 2813). Section 1 and section 15 of the Federal Noxious Weed Act were not repealed (7 U.S.C. 2801 note; 7 U.S.C. 2814);

4. The Mexican Border Act (7 U.S.C. 149);

5. The Insect Control Act (7 U.S.C. 148 et seq.);

6. The Halogeton Glomeratus Act (7 U.S.C. 1651 et seq.);

7. The Golden Nematode Act (7 U.S.C. 150 et seq.);

8. Section 1773 of the Food Security Act of 1985 (7 U.S.C. 148f); and

9. Subsections (a) through (e) of section 102 of the Department of Agriculture Organic Act of 1944 (7 U.S.C. 147a).

In addition, the PPA amended 7 U.S.C. 147b, which concerns emergency transfer authority, by removing “plant pests or” and references to 7 U.S.C. 147a. As a result, this section no longer pertains to plant health, but only to animal health.

In this document we are also making other changes to the regulations, not related to enactment of the PPA. We are:

1. Removing from the regulations several outdated or extraneous authority citations;

2. Amending APHIS' internal organization, functions, and delegations of authority to add a citation to the statute that authorizes APHIS to be reimbursed for overtime salaries paid for inspection or quarantine services;

3. Revising authority citations throughout the regulations to reflect changes in APHIS' internal organization, functions, and delegations of authority. These internal Agency changes were set forth in a final rule published in the Federal Register on January 10, 2000 (65 FR 1298-1302, Docket No. 97-025-1);

4. Making nonsubstantive changes to the regulations to update the names and unit numbers of various APHIS program staffs and to correct an address that referred to the Agency's previous location in Hyattsville, MD;

5. Updating, where appropriate, the names of countries that appear in the regulations; and

6. Making nonsubstantive editorial changes to enhance the clarity and usefulness of the regulations.

This rule relates to internal agency management. Therefore, this rule is exempt from the provisions of Executive Order 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Pub. L. 104-121. Finally, this action is not a rule as defined by 5 U.S.C. 601 et seq., the Regulatory Flexibility Act, and thus is exempt from the provisions of that Act.

List of Subjects

7 CFR Part 301

Agricultural commodities, Plant diseases and pests, Quarantine, Reporting and recordkeeping requirements, Transportation.

7 CFR Part 318

Cotton, Cottonseeds, Fruits, Guam, Hawaii, Plant diseases and pests, Puerto Rico, Quarantine, Transportation, Vegetables, Virgin Islands.

7 CFR Parts 319, 330, 340, 351, and 352

Administrative practice and procedure, Bee, Biotechnology, Coffee, Cotton, Customs duties and inspection, Fruits, Genetic engineering, Honey, Imports, Logs, Nursery Stock, Packaging and containers, Plant diseases and pests, Postal Service, Quarantine, Reporting and recordkeeping requirements, Rice, Transportation, Vegetables.

7 CFR Parts 353, 354, 355, and 360

Endangered and threatened species, Exports, Government employees, Imports, Law enforcement, Plant diseases and pests, Plants (Agriculture), Quarantine, Reporting and recordkeeping requirements, Transportation, Travel and transportation expenses, Weeds.

7 CFR Parts 371 and 380

Administrative practice and procedure, Authority delegations (Government agencies), Organization and functions (Government agencies).

9 CFR Parts 50, 51, 54, 72, 75, 79, 82, 85

Animal diseases, Bison, Cattle, Goats, Hogs, Horses, Indemnity payments, Livestock, Poultry and poultry products, Quarantine, Reporting and recordkeeping requirements, Scrapie, Sheep, Transportation, Tuberculosis.

9 CFR Part 94

Animal diseases, Imports, Livestock, Meat and meat products, Milk, Poultry and poultry products, Reporting and recordkeeping requirements.

Accordingly, we are amending 7 CFR parts 300, 301, 302, 318, 319, 322, 330, 340, 351, 352, 353, 354, 355, 356, 360, 361, 371, 372, and 380, and 9 CFR parts 1, 2, 3, 11, 49, 50, 51, 52, 53, 54, 70, 71, 72, 73, 74, 75, 77, 79, 80, 82, 85, 89, 91, 92, 94, 95, 96, 97, 98, 99, 101, 102, 103, 104, 105, 106, 107, 108, 109, 112, 113, 114, 115, 116, 117, 118, 122, 123, 124, 145, 147, 151, 156, 160, 161, 162, 166, and 167 as follows:

TITLE 7—AGRICULTURE

PART 300—INCORPORATION BY REFERENCE

1. The authority citation for part 300 is revised to read as follows:

Authority: 7 U.S.C. 7701-7772; 7 CFR 2.22, 2.80, and 371.3.

PART 301—DOMESTIC QUARANTINE NOTICES

2. The authority citation for part 301 is revised to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293 and Sec. 203, Title II, Pub. L. 106-224, 114 Stat. 400.

Subpart—Black Stem Rust

§ 301.38 [Amended]

3. In § 301.38, footnote 1 is amended by removing the words “section 10 of the Plant Quarantine Act (7 U.S.C. 164a) and sections 105 and 10 of the Federal Plant Pest Act (7 U.S.C. 150dd, 150ff)” and adding in their place the words “sections 414 and 421 of the Plant Protection Act (7 U.S.C. 7714 and 7731)”.

Subpart—Gypsy Moth

§ 301.45 [Amended]

4. In § 301.45, paragraph (a) is amended by removing the words “sections 8 and 9 of the Plant Quarantine Act of August 20, 1912, as amended, and sections 105 and 106 of the Federal Plant Pest Act (7 U.S.C. 161, 162, 150dd, 150ee)” and adding in their place the words “sections 411, 412, 414, 431, and 434 of the Plant Protection Act (7 U.S.C. 7711, 7712, 7714, 7751, and 7754)”.

§ 301.45-9 [Amended]

5. Section 301.45-9 is amended by removing the words “section 10 of the Plant Quarantine Act (7 U.S.C. 164a) and section 105 of the Federal Plant Pest Act (7 U.S.C. 150dd)” and adding in their place the words “sections 414, 421, and 434 of the Plant Protection Act (7 U.S.C. 7714, 7731, and 7754)”.

Subpart—Japanese Beetle

§ 301.48 [Amended]

6. In § 301.48, paragraph (a) is amended by removing the words “sections 8 and 9 of the Plant Quarantine Act of August 20, 1912, as amended, and section 106 of the Federal Plant Pest Act (7 U.S.C. 161, 162, and 150ee)” and adding in their place the words “sections 411, 412, 414, 431, and 434 of the Plant Protection Act (7 U.S.C. 7711, 7712, 7714, 7751, and 7754)”.

§ 301.48-5 [Amended]

7. Section 301.48-5 is amended by removing the words “section 10 of the Plant Quarantine Act (7 U.S.C. 164a) and section 105 of the Federal Plant Pest Act (7 U.S.C. 150dd)” and adding in their place the words “sections 414, 421, and 434 of the Plant Protection Act (7 U.S.C. 7714, 7731, and 7754)”.

Subpart—Pine Shoot Beetle

§ 301.50 [Amended]

8. In § 301.50, footnote 1 is amended by removing the words “section 10 of the Plant Quarantine Act (7 U.S.C. 164a) and sections 105 and 107 of the Federal Plant Pest Act (7 U.S.C. 150dd, 150ff)” and adding in their place the words “sections 414, 421, and 434 of the Plant Protection Act (7 U.S.C. 7714, 7731, and 7754)”.

9. Section 301.50-5 is amended by revising paragraph (a)(3), including footnote 4, and paragraph (b)(2) to read as follows:

§ 301.50-5 Issuance and cancellation of certificates and limited permits.

(a) * * *

(3) The regulated article is to be moved in compliance with any additional conditions deemed necessary under section 414 of the Plant Protection Act (7 U.S.C. 7714) ⁴ to prevent the spread of the pine shoot beetle; and

⁴ An inspector may hold, seize, quarantine, treat, apply other remedial measures to, destroy, or otherwise dispose of plants, plant pests, or other articles in accordance with sections 414, 421, and 434 of the Plant Protection Act (7 U.S.C. 7714, 7731, and 7754).

* * * * *

(b) * * *

(2) The regulated article is to be moved in compliance with any additional conditions deemed necessary under section 414 of the Plant Protection Act (7 U.S.C. 7714) to prevent the spread of the pine shoot beetle; and

* * * * *

Subpart—Asian Longhorned Beetle

10. Section 301.51-5 is amended by revising paragraph (a)(2), including footnote 2, and paragraph (b)(2) to read as follows:.

§ 301.51-5 Issuance and cancellation of certificates and limited permits.

(a) * * *

(2) Is to be moved in compliance with any additional conditions deemed necessary under section 414 of the Plant Protection Act (7 U.S.C. 7714) ² to prevent the artificial spread of the Asian longhorned beetle; and

² An inspector may hold, seize, quarantine, treat, apply other remedial measures to, destory, or otherwise dispose of plants, plant pests, or other articles in accordance with sections 414, 421, and 434 of the Plant Protection Act (7 U.S.C. 7714, 7731, and 7754).

* * * * *

(b) * * *

(2) It is to be moved in compliance with any additional conditions that the Administrator may impose under section 414 of the Plant Protection Act (7 U.S.C. 7714) in order to prevent the spread of the Asian longhorned beetle; and

* * * * *

Subpart—Pink Bollworm

§ 301.52-8 [Amended]

11. Section 301.52-8 is amended by removing the words “section 10 of the Plant Quarantine Act (7 U.S.C. 164a) and section 105 of the Plant Pest Act (7 U.S.C. 150dd)” and adding in their place the words “sections 414, 421, and 434 of the Plant Protection Act (7 U.S.C. 7714, 7731, and 7754)”.

Subpart—Mexican Fruit Fly Quarantine and Regulations

§ 301.64 [Amended]

12. In § 301.64, footnote 1 is amended by removing the words “section 10 of the Plant Quarantine Act (7 U.S.C. 164a) and sections 105 and 107 of the Federal Plant Pest Act (7 U.S.C. 150dd, 150ff)” and adding in their place the words “sections 414, 421, and 434 of the Plant Protection Act (7 U.S.C. 7714, 7731, and 7754)”.

13. In § 301.64-1, the definition of Plant Protection and Quarantine is revised to read as follows:

§ 301.64-1 Definitions.

* * * * *

Plant Protection and Quarantine. The organizational unit within the Animal and Plant Health Inspection Service, U.S. Department of Agriculture, delegated responsibility for enforcing provisions of the Plant Protection Act and related legislation, quarantines, and regulations.

* * * * *

14. In § 301.64-5, paragraphs (a)(2) and (b)(2), including footnote 5, are revised to read as follows:

§ 301.64-5 Issuance and cancellation of certificates and limited permits.

(a) * * *

(2) Determines that it is to be moved in compliance with any additional conditions deemed necessary under section 414 of the Plant Protection Act (7 U.S.C. 7714) to prevent the spread of the Mexican fruit fly; ⁵ and

⁵ An inspector may hold, seize, quarantine, treat, apply other remedial measures to, destroy, or otherwise dispose of plants, plant pests, or other articles in accordance with sections 414, 421, and 434 of the Plant Protection Act (7 U.S.C. 7714, 7731, and 7754).

* * * * *

(b) * * *

(2) Determines that it is to be moved in compliance with any additional conditions deemed necessary under section 414 of the Plant Protection Act (7 U.S.C. 7714) to prevent the spread of the Mexican fruit fly; ⁵ and

* * * * *

Subpart—Plum Pox

§ 301.74 [Amended]

15. In § 301.74, footnote 1 is amended by removing the words “section 10 of the Plant Quarantine Act (7 U.S.C. 164a) and sections 105 and 107 of the Federal Plant Pest Act (7 U.S.C. 150dd and 150ff)” and adding in their place the words “sections 414, 421, and 434 of the Plant Protection Act (7 U.S.C. 7714, 7731, and 7754)”.

Subpart—Mediterranean Fruit Fly

§ 301.78 [Amended]

16. In § 301.78, footnote 1 is amended by removing the words “section 10 of the Plant Quarantine Act (7 U.S.C. 164a) and sections 105 and 107 of the Federal Plant Pest Act (7 U.S.C. 150dd, 150ff)” and adding in their place the words “sections 414, 421, and 434 of the Plant Protection Act (7 U.S.C. 7714, 7731, and 7754)”.

17. Section 301.78-5 is amended by revising paragraph (a)(3), including footnote 4, and paragraph (b)(2) to read as follows:

§ 301.78-5 Issuance and cancellation of certificates and limited permits.

(a) * * *

(3) The regulated article is to be moved in compliance with any additional conditions deemed necessary under section 414 of the Plant Protection Act (7 U.S.C. 7714) ⁴ to prevent the spread of the Mediterranean fruit fly; and

⁴ An inspector may hold, seize, quarantine, treat, apply other remedial measures to, destory, or otherwise dispose of plants, plant pests, or other articles in accordance with sections 414, 421, and 434 of the Plant Protection Act (7 U.S.C. 7714, 7731, and 7754).

* * * * *

(b) * * *

(2) The regulated article is to be moved in compliance with any additional conditions the Administrator may impose under section 414 of the Plant Protection Act (7 U.S.C. 7714) to prevent the spread of the Mediterranean fruit fly; and

* * * * *

Subpart—Witchweed

18. In § 301.80, paragraph (a) is revised to read as follows:

§ 301.80 Quarantine; restriction on interstate movement of specified regulated articles.

(a) Notice of quarantine. Under the authority of sections 411, 412, 414, and 434 of the Plant Protection Act (7 U.S.C. 7711, 7712, 7714, and 7754), the Secretary of Agriculture quarantines the States of North Carolina and South Carolina in order to prevent the spread of witchweed (Striga spp.), a parasitic plant that causes a dangerous disease of corn, sorghum, and other crops of the grass family and is not widely prevalent or distributed within and throughout the United States. Through the aforementioned authorities, the Secretary imposes a quarantine on the States of North Carolina and South Carolina with respect to the interstate movement from those States of articles described in paragraph (b) of this section, issues regulations in this subpart governing the movement of such articles, and gives notice of this quarantine action.

* * * * *

19. In § 301.80-1, the paragraph designations are removed and the definition of Plant Protection and Quarantine Programs is revised to read as follows:

§ 301.80-1 Definitions.

* * * * *

Plant Protection and Quarantine Programs. The organizational unit with the Animal and Plant Health Inspection Service, U.S. Department of Agriculture, delegated responsibility for enforcing provisions of the Plant Protection Act and related legislation, quarantines, and regulations.

* * * * *

§ 301.80-8 [Amended]

20. Section 301.80-8 is amended by removing the words “section 10 of the Plant Quarantine Act (7 U.S.C. 164a) and section 105 of the Federal Plant Pest Act (7 U.S.C. 150dd)” and adding in their place the words “sections 414, 421, and 434 of the Plant Protection Act (7 U.S.C. 7714, 7731, and 7754)”.

Subpart—Imported Fire Ant

21. Section 301.81-5 is amended by revising paragraph (a)(2), including footnote 5, and paragraph (b)(2) to read as follows:

§ 301.81-5 Issuance and cancellation of certificates and limited permits.

(a) * * *

(2) Is to be moved interstate in compliance with any additional conditions deemed necessary under section 414 of the Plant Protection Act (7 U.S.C. 7714) to prevent the spread of the imported fire ant; ⁵ and

⁵ An inspector may hold, seize, quarantine, treat, apply other remedial measures to, destory, or otherwise dispose of plants, plant pests, or other articles in accordance with sections 414, 421, and 434 of the Plant Protection Act (7 U.S.C. 7714, 7731, and 7754).

* * * * *

(b) * * *

(2) Is to be moved interstate in compliance with any conditions that the Administrator may impose under section 414 of the Plant Protection Act (7 U.S.C. 7714) to prevent the spread of the imported fire ant; and

* * * * *

Subpart—Golden Nematode

22. In § 301.85, paragraph (a) is revised to read as follows:

§ 301.85 Quarantine; restriction on interstate movement of specified regulated articles.

(a) Notice of quarantine. Under the authority of sections 411, 412, 414, and 434 of the Plant Protection Act (7 U.S.C. 7711, 7712, 7714, and 7754), the Secretary of Agriculture quarantines the State of New York in order to prevent the spread of the golden nematode (Heterodera rostochiensis), which causes a dangerous disease of potatoes and certain other plants and is not widely prevalent or distributed within and throughout the United States. Through the aforementioned authorities, the Secretary imposes a quarantine on the State of New York with respect to the interstate movement from that State of the articles described in paragraph (b) of this section, issues regulations in this subpart governing the movement of such articles, and gives notice of this quarantine action.

* * * * *

23. In § 301.85-1, the paragraph designations are removed and the definition of Plant Protection and Quarantine Programs is revised to read as follows:

§ 301.85-1 Definitions.

* * * * *

Plant Protection and Quarantine Programs. The organizational unit within the Animal and Plant Health Inspection Service, U.S. Department of Agriculture, delegated responsibility for enforcing provisions of the Plant Protection Act and related legislation, quarantines, and regulations.

* * * * *

§ 301.85-8 [Amended]

24. Section 301.85-8 is amended by removing the words “section 10 of the Plant Quarantine Act (7 U.S.C. 164a) and section 105 of the Federal Plant Pest Act (7 U.S.C. 150dd)” and adding in their place the words “sections 414, 421, and 434 of the Plant Protection Act (7 U.S.C. 7714, 7731, and 7754)”.

Subpart—Sugarcane Diseases

25. Section 301.87 is amended as follows:

a. In the section heading, by revising footnote 1.

b. By revising paragraph (a).

The revisions read as follows:

§ 301.87 Quarantine; restrictions on interstate movement of regulated articles.1 2

¹ Any inspector is authorized to stop and inspect persons and means of conveyance, and to hold, seize, quarantine, treat, apply other remedial measures to, destroy, or otherwise dispose of plants, plant pests, or other articles in accordance with sections 414, 421, and 434 of the Plant Protection Act (7 U.S.C. 7714, 7731, and 7754).

² Regulations concerning the movement of gummosis bacteria and leaf scald bacteria in interstate or foreign commerce are contained in part 330 of this chapter.

(a) Notice of quarantine. Under the authority of sections 411, 412, 414, and 434 of the Plant Protection Act (7 U.S.C. 7711, 7712, 7714, and 7754), the Secretary of Agriculture quarantines Hawaii to prevent the artificial spread of leaf scald disease and quarantines Puerto Rico to prevent the artificial spread of gummosis disease and leaf scald disease. The regulations in this subpart govern the interstate movement from Hawaii and Puerto Rico of the regulated articles described in § 301.87-2.

* * * * *

26. In § 301.87-1, the definition of Plant Protection and Quarantine is revised to read as follows:

§ 301.87-1 Definitions.

* * * * *

Plant Protection and Quarantine. The organizational unit within the Animal and Plant Health Inspection Service, U.S. Department of Agriculture, delegated responsibility for enforcing provisions of the Plant Protection Act and related legislation, quarantines, and regulations.

* * * * *

27. In § 301.87-5, paragraphs (a)(2) and (b)(2), including footnote 6, are revised to read as follows:

§ 301.87-5 Issuance and cancellation of certificates and limited permits.

(a) * * *

(2) Determines that it is to be moved in compliance with any additional conditions deemed necessary under section 414 of the Plant Protection Act (7 U.S.C. 7714) ⁶ to prevent the spread of sugarcane diseases; and

⁶ An inspector may hold, seize, quarantine, treat, apply other remedial measures to, destroy, or otherwise dispose of plants, plant pests, or other articles in accordance with sections 414, 421, and 434 of the Plant Protection Act (7 U.S.C. 7714, 7731, and 7754).

* * * * *

(b) * * *

(2) Determines that it is to be moved in compliance with any additional conditions deemed necessary under section 414 of the Plant Protection Act (7 U.S.C. 7714)6 to prevent the spread of sugarcane diseases; and

* * * * *

Subpart—Karnal Bunt

28. Section 301.89-6 is amended by revising paragraph (a)(2), including footnote 3, and paragraph (c)(2) to read as follows:

§ 301.89-6 Issuance of a certificate or limited permit.

(a) * * *

(2) Is to be moved in compliance with any conditions deemed necessary under section 414 of the Plant Protection Act (7 U.S.C. 7714) ³ to prevent the artificial spread of Karnal bunt; and

³ An inspector may hold, seize, quarantine, treat, apply other remedial measures to, destroy, or otherwise dispose of plants, plant pests, or other articles in accordance with sections 414, 421, and 431 of the Plant Protection Act (7 U.S.C. 7714, 7731, and 7754).

* * * * *

(c) * * *

(2) Is to be moved in compliance with any additional conditions the Administrator may impose under section 414 of the Plant Protection Act (7 U.S.C. 7714) to prevent the artificial spread of Karnal bunt; and

* * * * *

Subpart—European Larch Canker

§ 301.91 [Amended]

29. In the heading for § 301.91, footnote 1 is amended by removing the words “section 10 of the Plant Quarantine Act (7 U.S.C. 164a) and sections 105 and 107 of the Federal Plant Pest Act (7 U.S.C. 150dd, 150ff)” and adding in their place the words “sections 414, 421, and 434 of the Plant Protection Act (7 U.S.C. 7714, 7731, and 7754)”.

30. In § 301.91-1, the paragraph designations are removed and the definition of Plant Protection and Quarantine is revised to read as follows:

§ 301.91-1 Definitions.

* * * * *

Plant Protection and Quarantine. The organizational unit within the Animal and Plant Health Inspection Service, U.S. Department of Agriculture, delegated responsibility for enforcing provisions of the Plant Protection Act and related legislation, quarantines, and regulations.

* * * * *

31. In § 301.91-5, paragraphs (a)(2) and (b)(2), including footnote 3, are revised to read as follows:

§ 301.91-5 Issuance and cancellation of certificates and limited permits.

(a) * * *

(2) Determines that it is to be moved in compliance with any additional conditions deemed necessary under section 414 of the Plant Protection Act (7 U.S.C. 7714) ³ to prevent the spread of European larch canker; and

* * * * *

³ An inspector may hold, seize, quarantine, treat, apply other remedial measures to, destory, or otherwise dispose of plants, plant pests, or other articles in accordance with sections 414, 421, and 434 of the Plant Protection Act (7 U.S.C. 7714, 7731, and 7754).

(b) * * *

(2) Determines that it is to be moved in compliance with any additional conditions deemed necessary under section 414 of the Plant Protection Act (7 U.S.C. 7714) ³ to prevent the spread of European larch canker; and

Subpart—Oriental Fruit Fly

§ 301.93 [Amended]

32. In § 301.93, footnote 1 is amended by removing the words “section 10 of the Plant Quarantine Act (7 U.S.C. 164a) and sections 105 and 107 of the Federal Plant Pest Act (7 U.S.C. 150dd, 150ff)” and adding in their place the words “sections 414, 421, and 434 of the Plant Protection Act (7 U.S.C. 7714, 7731, and 7754)”.

33. In § 301.93-5, paragraphs (a)(2) and (b)(2), including footnote 4, are revised to read as follows:

§ 301.93-5 Issuance and cancellation of certificates and limited permits.

(a) * * *

(2) The regulated article is to be moved in compliance with any additional conditions deemed necessary under section 414 of the Plant Protection Act (7 U.S.C. 7714) ⁴ to prevent the spread of the Oriental fruit fly; and

⁴ An inspector may hold, seize, quarantine, treat, apply other remedial measures to, destory, or otherwise dispose of plants, plant pests, or other articles in accordance with sections 414, 421, and 434 of the Plant Protection Act (7 U.S.C. 7714, 7731, and 7754).

(b) * * *

(2) The regulated article is to be moved interstate in compliance with any additional conditions deemed necessary under section 414 of the Plant Protection Act (7 U.S.C. 7714) ⁴ to prevent the spread of the Oriental fruit fly; and

* * * * *

Subpart—Melon Fruit Fly

§ 301.97 [Amended]

34. In § 301.97, footnote 1 is amended by removing the words “section 10 of the Plant Quarantine Act (7 U.S.C. 164a) and sections 105 and 107 of the Federal Plant Pest Act (7 U.S.C. 150dd and 150ff)” and adding in their place the words “sections 414, 421, and 434 of the Plant Protection Act (7 U.S.C. 7714, 7731, and 7754)”.

35. Section 301.97-5 is amended by revising paragraph (a)(3), including footnote 5, and paragraph (b)(2) to read as follows:

§ 301.97-5 Issuance and cancellation of certificates and limited permits.

(a) * * *

(3) The regulated article is to be moved in compliance with any additional conditions deemed necessary under section 414 of the Plant Protection Act (7 U.S.C. 7714) ⁵ to prevent spread of the melon fruit fly; and

⁵ An inspector may hold, seize, quarantine, treat, apply other remedial measures to, destroy, or otherwise dispose of plants, plant pests, or other articles in accordance with sections 414, 421, and 434 of the Plant Protection Act (7 U.S.C. 7714, 7731, and 7754).

* * * * *

(b) * * *

(2) The regulated article is to be moved in compliance with any additional conditions the Administrator may impose under section 414 of the Plant Protection Act (7 U.S.C. 7714) to prevent the spread of the melon fruit fly; and

* * * * *

PART 302—DISTRICT OF COLUMBIA; MOVEMENT OF PLANTS AND PLANT PRODUCTS

36. The authority citation for part 302 is revised to read as follows:

Authority: 7 U.S.C. 7712, 7714, 7715, 7731, 7732, 7735, 7736, 7745, and 7754-7756; 7 CFR 2.22, 2.80, and 371.3.

PART 318—HAWAIIAN AND TERRITORIAL QUARANTINE NOTICES

37. The authority citation for part 318 is revised to read as follows:

Authority: 7 U.S.C. 7711, 7712, 7714, 7731, 7754, and 7756; 7 CFR 2.22, 2.80, and 371.3.

Subpart—Hawaiian Fruits and Vegetables

38. In § 318.13, paragraph (a) is revised to read as follows:

§ 318.13 Notice of quarantine.

(a) Under the authority of sections 411, 412, 414, and 434 of the Plant Protection Act (7 U.S.C. 7711, 7712, 7714, and 7754), the State of Hawaii is quarantined to prevent the spread of dangerous plant diseases and pests, including the Mediterranean fruit fly (Ceratitis capitata (Wied.)), the melon fly (Bactrocera cucurbitae Coq.), the oriental fruit fly (Bactrocera dorsalis Hendl.), green coffee scale (Coccus viridis (Green)), the bean pod borer (Maruca testulalis (Geyer)), the bean butterfly (Lampides boeticus (L.)), the Asiatic rice borer (Chilo suppressalis), the mango weevil (Sternochetus mangiferae (F.)), the Chinese rose beetle (Adoretus sinicus Burm.), and a cactus borer (Cactoblastis cactorum (Berg.)), which are new to or not known to be widely prevalent or distributed within and throughout other States.

* * * * *

§ 318.13-12 [Amended]

39. In § 318.13-12, paragraph (a) is amended by removing the words “Plant Quarantine Act” and adding in their place the words “Plant Protection Act”.

Subpart—Sweetpotatoes

40. In § 318.30, paragraph (b) is revised to read as follows:

§ 318.30 Notice of quarantine.

* * * * *

(b) Under the authority of sections 411, 412, 414, and 434 of the Plant Protection Act (7 U.S.C. 7711, 7712, 7714, and 7754), Hawaii, Puerto Rico, and the Virgin Islands of the United States are quarantined to prevent the spread of the sweetpotato scarabee (Euscepes postfasciatus Fairm.) and the sweetpotato stem borer (Omphisa anastomosalis Guen.).

* * * * *

Subpart—Territorial Cotton, Cottonseed, and Cottonseed Products

41. In § 318.47, paragraph (b) is revised to read as follows:

§ 318.47 Notice of quarantine.

* * * * *

(b) Under the authority of sections 411, 412, 414, and 434 of the Plant Protection Act (7 U.S.C. 7711, 7712, 7714, and 7754), Hawaii, Puerto Rico, and the Virgin Islands of the United States are quarantined to prevent the spread of the aforementioned insect pests.

* * * * *

Subpart—Fruits and Vegetables From Puerto Rico or Virgin Islands

42. In § 318.58, paragraph (a) is revised to read as follows:

§ 318.58 Notice of quarantine.

(a) Under the authority of sections 411, 412, 414, and 434 of the Plant Protection Act (7 U.S.C. 7711, 7712, 7714, and 7754), Puerto Rico and the Virgin Islands of the United States are quarantined to prevent the spread of certain dangerous insects that are not widely prevalent or distributed within and throughout the United States, including the fruit flies Anastrepha suspensa (Loew) and A. mombinpraeoptans Sein; the bean pod borer Maruca testulalis (Geyer); and a cactus borer, Cactoblastis cactorum (Berg.).

* * * * *

Subpart—Sand, Soil, or Earth, with Plants from Territories and Districts

43. In § 318.60, paragraph (b) is revised to read as follows:

§ 318.60 Notice of quarantine.

* * * * *

(b) Under the authority of sections 411, 412, 414, and 434 of the Plant Protection Act (7 U.S.C. 7711, 7712, 7714, and 7754), Hawaii, Puerto Rico, and the Virgin Islands of the United States are quarantined to prevent the spread of the aforementioned dangerous insects.

* * * * *

Subpart—Guam

44. In § 318.82, paragraph (a) is revised to read as follows:

§ 318.82 Notice of quarantine.

(a) Under the authority of sections 411, 412, 414, and 434 of the Plant Protection Act (7 U.S.C. 7711, 7712, 7714, and 7754), Guam is quarantined to prevent the spread of dangerous plant pest and diseases that are new to or not widely prevalent or distributed within and throughout the United States. Such plant pests and diseases include: Icerya aegyptiaca (Dougl.), Xanthomonas citri (Hasse) Dowson, Aleurocanthus spiniferus (Q.), Phyllocnistis citrella (Stainton), Coccus viridis (Green), Anomala sulcatula Burm., Furcaspis oceanica Ldgr., Stephanoderes hampei (Ferr.), Pectinophora scutigera (Holdaway), Bactrocera dorsalis Hend., Bactrocera cucurbitae (Coq.), Maruca testulalis (Geyer), Lampides boeticus (L.), Prays endocarpa Meyr., Prodenia litura (F.), Euscepes postfasciatus (Fairm.), Earias fabia (Stoll), Elsinoe batatas (Saw.) Viegas and Jenkins, Uredo dioscoreae-alatae Rac., Cercospora batatae Zimm., Coniothyrium sp., Phyllosticta colocasiophila Weed., Xanthomonas vasculorum (Cobb) Dowson, Rhabdoscelus obscurus (Boisd.), Neomaskellia bergeii (Sign.), Pyrausta nubilalis (Hbn.), Physoderma zeaemaydis Shaw, Leptocorisa acuta (Thunb.), Adoretus sinicus Burm., and Holotrichia mindanaona Brenske. The regulations in this subpart govern the movement of carriers of these pests.

* * * * *

PART 319—FOREIGN QUARANTINE NOTICES

45. The authority citation for part 319 is revised to read as follows:

Authority: 7 U.S.C. 166, 450, 7711-7714, 7718, 7731, 7732, and 7751-7754; 21 U.S.C. 136 and 136a; 7 CFR 2.22, 2.80, and 371.3.

Subpart—Foreign Cotton and Covers

46. Section 319.8 is amended as follows:

a. In the first sentence, by removing the words “sections 5 and 7 of the Plant Quarantine Act of 1912, as amended (7 U.S.C. 159, 160)” and adding in their place the words “sections 411-414 and 434 of the Plant Protection Act (7 U.S.C. 7711-7714 and 7754)”.

b. In the second sentence, by removing the words “the provisions of sections 1, 2, 3, and 4 of said Plant Quarantine Act (7 U.S.C. 154, 156, 157, and 158):” and adding in their place the words “sections 411-414, 421, and 434 of the Plant Protection Act (7 U.S.C. 7711-7714, 7731, and 7754).”

47. In § 319.8-1, the paragraph designations are removed, the defined terms are placed in alphabetical order, and the definition of Inspector is revised to read as follows:

§ 319.8-1 Definitions.

* * * * *

Inspector. A properly identified employee of the U.S. Department of Agriculture or other person authorized to enforce the provisions of the Plant Protection Act.

* * * * *

§§ 319.8-2, 319.8-4, and 319.8-5 [Amended]

48. At the end of §§ 319.8-2, 319.8-4, and 319.8-5, the statutory authority citation “(44 U.S.C. 35)” is removed.

§ 319.8-26 [Amended]

49. Section 319.8-26 is amended by removing the words “section 10 of the Plant Quarantine Act (7 U.S.C. 164a)” and adding in their place the words “sections 414 and 421 of the Plant Protection Act (7 U.S.C. 7714 and 7731)”.

Subpart—Sugarcane

50. In § 319.15, paragraph (a) is revised to read as follows:

§ 319.15 Notice of quarantine.

(a) The importation into the United States of sugarcane and its related products, including cuttings, canes, leaves, and bagasse, from all foreign countries and localities is prohibited, except for importations by the U.S. Department of Agriculture for scientific or experimental purposes and importations authorized under a permit issued by the Department specifying conditions under which the materials have been or are to be subjected to mitigate any pest risk.

* * * * *

Subpart—Corn Diseases

51. In § 319.24, paragraph (b) is revised to read as follows:

§ 319.24 Notice of quarantine.

* * * * *

(b) Except as otherwise provided in this subpart, the importation into the United States of raw or unmanufactured corn seed and all other portions of Indian corn or maize and related plants, including all species of teosinte (Euchlaena), jobs-tears (Coix), Polytoca, Chionachne, and Sclerachne, from southeastern Asia (including India, Indochina, and the People's Republic of China), Malayan Archipelago, Australia, New Zealand, Oceania, Philippine Islands, Manchuria, Japan, and adjacent islands is prohibited. However, this prohibition does not apply to importations of such items by the U.S. Department of Agriculture for scientific or experimental purposes. And further, when the public interests will permit, the Deputy Administrator of the Plant Protection and Quarantine Programs may, upon request in specific cases, authorize such importations into Guam under conditions specified in the permit that are less stringent than those contained in this subpart.

* * * * *

§§ 319.24-1, 319.24-3, and 319.24-4 [Amended]

52. At the end of §§ 319.24-1, 319.24-3, and 319.24-4, the statutory authority citation “(44 U.S.C. 35)” is removed.

Subpart—Citrus Fruit

53. In § 319.28, paragraph (a) is revised to read as follows:

§ 319.28 Notice of quarantine.

(a)(1) To prevent the introduction into the United States of citrus canker disease Xanthomonas campestris pv. citri (Hasse) Dye, the importation of all fruits and peel of all genera, species, and varieties of the subfamilies Aurantioideae, Rutoideae, and Toddalioideae of the botanical family Rutaceae from eastern and southeastern Asia (including India, Myanmar, Sri Lanka, Thailand, Indochina, and the People's Republic of China); the Malay Archipelago; the Philippine Islands; Oceania (except Australia and Tasmania); Japan and adjacent islands; the Republic of Korea; Mauritius; Seychelles; Argentina (except for the States of Catamarca, Jujuy, Salta, and Tucuman, which are considered free of citrus canker); Brazil; and Paraguay is prohibited.

(2) To prevent the introduction into the United States of sweet orange scab (Elsinoe australis Bitanc. and Jenkins), the importation of fruits and peel of all species and varieties of the genus Citrus, including Citrus aurantifolia (Christm.) Swingle, C. aurantium L., C. hystrix DC., C. limon (L.) Burm. f., C. paradisi Macf., C. reticulata Blanco, C. sinensis (L.) Osbeck, and Fortunella margarita (Lour.) Swingle, from Argentina (except as provided by § 319.56-2f of this part), Brazil, Paraguay, and Uruguay is prohibited.

(3) To prevent the introduction into the United States of the bacterial disease “Cancrosis B,” the importation of fruits and peel of all species and varieties of the genus Citrus, including those indicated in the previous paragraph, is prohibited from Argentina (except for the States of Catamarca, Jujuy, Salta, and Tucuman, which are considered free of Cancrosis B), Paraguay, and Uruguay. Seeds and processed peel of fruits designated in this section are excluded from this prohibition. Such seeds, however, are subject to the requirements of §§ 319.37 through 319.37-27.

* * * * *

Subpart—Nursery Stock, Plants, Roots, Bulbs, Seeds, and Other Plant Products

54. In § 319.37-1, the definition of Plant Protection and Quarantine Programs is revised to read as follows:

§ 319.37-1 Definitions.

* * * * *

Plant Protection and Quarantine Programs. The organizational unit with the Animal and Plant Health Inspection Service, U.S. Department of Agriculture, delegated responsibility for enforcing provisions of the Plant Protection Act and related legislation, quarantines, and regulations.

* * * * *

55. Section 319.37-3 is amended as follows:

a. By revising paragraphs (c) and (f), including footnote 5.

b. By removing the statutory authority citation “(44 U.S.C. 35)” at the end of the section.

The revisions read as follows:

* * * * *

§ 319.37-3 Permits.

* * * * *

(c) A permit indicating the applicable conditions for importation under this subpart will be issued by Plant Protection and Quarantine Programs if, after review of the application, the articles are deemed eligible to be imported into the United States under the conditions specified in the permit. However, even if such a permit is issued, the regulated article may be imported only if all applicable requirements of this subpart are met and only if an inspector at the port of entry determines that no remedial measures pursuant to the Plant Protection Act are necessary with respect to the regulated article.⁵

⁵ An inspector may hold, seize, quarantine, treat, apply other remedial measures to, destory, or otherwise dispose of plants, plant pests, or other articles in accordance with sections 414, 421, and 434 of the Plant Protection Act (7 U.S.C. 7714, 7731, and 7754).

* * * * *

(f) An oral permit for importation of an article shall be issued at a port of entry by an inspector only if all applicable requirements of this subpart are met, such article is eligible to be imported under an oral permit, and an inspector at the port of entry determines that no measures pursuant to section 414 of the Plant Protection Act (7 U.S.C. 7714) are necessary with respect to such article.⁵

* * * * *

§ 319.37-5 [Amended]

56. At the end of § 319.37-5, the statutory authority citation “(44 U.S.C. 35)” is removed.

§ 319.37-7 [Amended]

57. Section 319.37-7 is amended as follows:

a. In paragraph (f)(4), by removing the words “7 U.S.C. 150gg and 163” and adding in their place the words “7 U.S.C. 7734”.

b. At the end of the section, by removing the statutory authority citation “(44 U.S.C. 35)”.

§ 319.37-8 [Amended]

58. At the end of § 319.37-8, the statutory authority citation beginning with the words “(Secs. 1, 5 and 9,” and ending with the words “38 FR 19141)” is removed.

§§ 319.37-10 and 319.37-11 [Amended]

59. At the end of §§ 319.37-10 and 319.37-11, the statutory authority citation “(44 U.S.C. 35)” is removed.

Subpart—Logs, Lumber, and Other Unmanufactured Wood Articles

60. In § 319.40-4, paragraph (c), including footnote 2, is revised to read as follows:

§ 319.40-4 Application for a permit to import regulated articles; issuance and withdrawal of permits.

* * * * *

(c) Permit does not guarantee eligibility for import. Even if a permit has been issued for the importation of a regulated article, the regulated article may be imported only if all applicable requirements of this subpart are met and only if an inspector at the port of first arrival determines that no remedial measures are necessary pursuant to the Plant Protection Act with respect to the regulated article.²

² An inspector may hold, seize, quarantine, treat, apply other remedial measures to, destroy, or otherwise dispose of plants, plant pests, or other articles in accordance with sections 414, 421, and 434 of the Plant Protection Act (7 U.S.C. 7714, 7731, and 7754).

* * * * *

§ 319.40-9 [Amended]

61. In § 319.40-9, paragraph (a)(4)(i), footnote 3 is amended by removing the words “Noxious Weed Act” and adding in their place the words “the noxious weed”.

Subpart—Indian Corn or Maize, Broomcorn, and Related Plants

62. In § 319.41, paragraphs (b) and (c) are revised to read as follows:

§ 319.41 Notice of quarantine.

* * * * *

(b) To prevent the introduction of these plant pests, the following articles may not be imported into the United States except in accordance with this subpart: The raw or unmanufactured stalk and all other parts of Indian corn or maize (Zea mays L.), broomcorn (Andropogon sorghum var. technicus), sweet sorghums (Andropogon sorghum), grain sorghums (Andropogon sorghum), Sudan grass (Andropogon sorghum sudanensis), Johnson grass (Andropogon halepensis), sugarcane (Saccharum officinarum), including Japanese varieties, pearl millet (Pennisetum glaucum), napier grass (Pennisetum purpureum), teosinte (Euchlaena luxurians), and jobs-tears (Coix lachryma-Jobi).

(c) When the public interests will permit, the Deputy Administrator of the Plant Protection and Quarantine Programs may, upon request in specific cases, authorize such importations into Guam under conditions specified in the permit that are less stringent than those contained in this subpart.

* * * * *

§§ 319.41-2, 319.41-4, and 319.41-6 [Amended]

63. At the end of §§ 319.41-2, 319.41-4, and 319.41-6, the statutory authority citation “(44 U.S.C. 35)” is removed.

Subpart—Rice

64. In § 319.55, paragraphs (b) and (c) are revised to read as follows:

§ 319.55 Notice of quarantine.

* * * * *

(b) To prevent the introduction into the United States of the plant pests and diseases indicated above, the Secretary has determined that it is necessary to prohibit the importation into the United States of seed or paddy rice from all foreign locations except the Republic of Mexico and to restrict the importation of seed or paddy rice, rice straw, and rice hulls from the Republic of Mexico and all other foreign locations, except as otherwise provided in this subpart.

(c) When the public interests will permit, the Deputy Administrator of the Plant Protection and Quarantine Programs may, upon request in specific cases, authorize such importations into Guam under conditions specified in the permit that are less stringent than those contained in this subpart.

* * * * *

§§ 319.55-2, 319.55-5, and 319.55-7 [Amended]

65. At the end of §§ 319.55-2, 319.55-5, and 319.55-7, the statutory authority citation “(44 U.S.C. 35)” is removed.

Subpart—Fruits and Vegetables

66. In § 319.56, paragraphs (b) and (c) are revised to read as follows:

§ 319.56 Notice of quarantine.

* * * * *

(b) To prevent the introduction into the United States of the aforementioned injurious insects, the Secretary has determined that it is necessary to prohibit the importation into the United States of fruits and vegetables, and the plants or portions of plants used as packing material for such fruits and vegetables, except as otherwise provided in this subpart.

(c) When the public interests will permit, the Deputy Administrator of the Plant Protection and Quarantine Programs may, upon request in specific cases, authorize such importations into Guam under conditions specified in the permit that are less stringent than those contained in this subpart.

* * * * *

§ 319.56-2j [Amended]

67. At the end of § 319.56-2j, the statutory authority citation beginning with the words “(Secs. 5 and 9,” and ending with the words “38 FR 19141)” is removed.

§§ 319.56-3 and 319.56-5 [Amended]

68. At the end of §§ 319.56-3 and 319.56-5, the statutory authority citation “(44 U.S.C. 35)” is removed.

Subpart—Wheat Diseases

69. At the beginning of the subpart, the statutory authority citation for “Subpart Wheat—Diseases” is removed.

70. Section 319.59 is amended as follows:

a. By revising paragraph (a).

b. In paragraph (b), by revising the last sentence.

The revisions read as follows:

§ 319.59 Prohibitions on importation; disposal of articles refused importation.

(a) To prevent the introduction into the United States of foreign strains of flag smut and Karnal bunt, the importation of the articles designated in § 319.59-2(a) and (b) may not be imported into the United States except as provided in § 319.59-2(c).

(b) * * * If the article is not promptly safeguarded, removed from the United States, or destroyed as deemed necessary by an inspector at the expense of the importer, it may be seized, destroyed, or otherwise disposed of in accordance with section 414 of the Plant Protection Act (7 U.S.C. 7714).

71. In § 319.59-1, the definition of Plant Protection and Quarantine is revised to read as follows:

§ 319.59-1 Definitions.

* * * * *

Plant Protection and Quarantine. The organizational unit within the Animal and Plant Health Inspection Service, U.S. Department of Agriculture, delegated responsibility for enforcing provisions of the Plant Protection Act and related legislation, quarantines, and regulations.

* * * * *

Subpart—Khapra Beetle

72.-73. In § 319.75, paragraph (b), the last sentence is revised to read as follows:

§ 319.75 Restrictions on importation of restricted articles; disposal of articles refused importation.

* * * * *

(b) * * * If the article is not promptly safeguarded, removed from the United States, or abandoned by the importer for destruction, it may be seized, destroyed, or otherwise disposed of in accordance with section 414 of the Plant Protection Act (7 U.S.C. 7714).

* * * * *

74. In § 319.75-1, the definition of Plant Protection and Quarantine is revised to read as follows:

§ 319.75-1 Definitions.

* * * * *

Plant Protection and Quarantine. The organizational unit within the Animal and Plant Health Inspection Service, U.S. Department of Agriculture, delegated responsibility for enforcing provisions of the Plant Protection Act and related legislation, quarantines, and regulations.

* * * * *

75. Section 319.75-3 is amended as follows:

a. By revising paragraph (c), including footnote 5.

b. By removing the statutory authority citation “(44 U.S.C. 35)” at the end of the section.

The revisions read as follows:

§ 319.75-3 Permits.

* * * * *

(c) A permit indicating the applicable conditions for importation under this subpart will be issued by Plant Protection and Quarantine Programs if, after review of the application, the articles are deemed eligible to be imported into the United States under the conditions specified in the permit. However, even if such a permit is issued, the regulated article may be imported only if all applicable requirements of this subpart are met and only if an inspector at the port of entry determines that no remedial measures pursuant to section 414 of the Plant Protection Act (7 U.S.C. 7714) are necessary with respect to the regulated article.⁵

⁵ An inspector may hold, seize, quarantine, treat, apply other remedial measures to, destory, or otherwise dispose of plants, plant pests, or other articles in accordance with sections 414, 421, and 434 of the Plant Protection Act (7 U.S.C. 7714, 7731, and 7754).

* * * * *

§ 319.75-5 [Amended]

76. At the end of § 319.75-5, the statutory authority citation “(44 U.S.C. 35)” is removed.

§ 319.75-6 [Amended]

77. At the end of § 319.75-6, the statutory authority citation “(44 U.S.C. 35)” is removed.

Subpart—Exotic Bee Diseases and Parasites

78. In § 319.76, paragraph (b), the second sentence is revised to read as follows:

§ 319.76 Restrictions on importation of restricted articles; disposal of articles refused importation.

* * * * *

(b) * * * If the article is not promptly safeguarded, removed from the United States, or abandoned for destruction by the importer, it may be seized, destroyed, or otherwise disposed of in accordance with section 414 of the Plant Protection Act (7 U.S.C. 7714).

* * * * *

79. In § 319.76-1, the definition of Plant Protection and Quarantine is revised to read as follows:

§ 319.76-1 Definitions.

* * * * *

Plant Protection and Quarantine. The organizational unit within the Animal and Plant Health Inspection Service, U.S. Department of Agriculture, delegated responsibility for enforcing provisions of the Plant Protection Act and related legislation, quarantines, and regulations.

* * * * *

80. In § 319.76-3, paragraph (c), including footnote 2, is revised to read as follows:

§ 319.76-3 Permits.

* * * * *

(c) A permit indicating the applicable conditions for importation under this subpart will be issued by Plant Protection and Quarantine Programs if, after review of the application, the articles are deemed eligible to be imported into the United States under the conditions specified in the permit. However, even if such a permit is issued, the regulated article may be imported only if all applicable requirements of this subpart are met and only if an inspector at the port of entry determines that no remedial measures pursuant to section 414 of the Plant Protection Act (7 U.S.C. 7714) are necessary with respect to the regulated article.²

² An inspector may hold, seize, quarantine, treat, apply other remedial measures to, destory, or otherwise dispose of plants, plant pests, or other articles in accordance with sections 414, 421, and 434 of the Plant Protection Act (7 U.S.C. 7714, 7731, and 7754).

* * * * *

Subpart—Gypsy Moth Host Material from Canada

§ 319.77-5 [Amended]

81. In § 319.77-5, the second sentence, the words “section 10 of the Plant Quarantine Act (7 U.S.C. 164a) and sections 105 and 107 of the Federal Plant Pest Act (7 U.S.C. 150dd and 150ff)” are removed, and the words “section 414 of the Plant Protection Act (7 U.S.C. 7714)” are added in their place.

PART 322—HONEYBEES AND HONEYBEE SEMEN

82. The authority citation for part 322 is revised to read as follows:

Authority: 7 U.S.C. 281; 7 CFR 2.22, 2.80, and 371.3.

PART 330—FEDERAL PLANT PEST REGULATIONS; GENERAL; PLANT PESTS; SOIL, STONE, AND QUARRY PRODUCTS; GARBAGE

83. The authority citation for part 330 is revised to read as follows:

Authority: 7 U.S.C. 450, 2260, 7711, 7712, 7714, 7718, 7731, 7734, 7751, and 7754; 19 U.S.C. 1306; 21 U.S.C. 111, 114a, 136, and 136a; 31 U.S.C. 9701; 42 U.S.C. 4331 and 4332; 7 CFR 2.22, 2.80, and 371.3.

Subpart—General Provisions

84. Section 330.100 is amended as follows:

a. By revising the definition of Inspector.

b. By removing the definitions for Plant Quarantine Act and The Federal Plant Pest Act.

c. By adding a new definition for Plant Protection Act, in alphabetical order.

The revision and addition read as follows:

§ 330.100 Definitions.

* * * * *

Inspector. A properly identified employee of the U.S. Department of Agriculture or other person authorized by the Department to enforce the provisions of the Plant Protection Act and related legislation, quarantines, and regulations.

* * * * *

Plant Protection Act. Title IV of Public Law 106-224, 114 Stat. 438, 7 U.S.C. 7701-7772, which was enacted June 20, 2000.

* * * * *

85. Section 330.102 is revised to read as follows:

§ 330.102 Basis for certain regulations.

Under the authority of the Plant Protection Act, the Secretary may prohibit or restrict the importation, entry, exportation, or movement in interstate commerce of any plant, plant product, biological control organism, noxious weed, article (including baggage, mail, garbage, earth, stone, and quarry products) or means of conveyance if such actions are necessary to prevent the introduction into or the dissemination within the United States of a plant pest or noxious weed.

§ 330.106 [Amended]

86. In § 330.106, paragraph (a) is amended by removing the words “Plant Quarantine Act” and adding in their place the words “Plant Protection Act”.

Subpart—Movement of Plant Pests

§§ 330.205, 330.207, and 330.208 [Amended]

87. Sections 330.205, 330.207, and 330.208 are amended by removing the words “Federal Plant Pest Act” each time they appear and by adding in their place the words “Plant Protection Act”.

§ 330.210 [Amended]

88. Section 330.210 is amended by removing the words “Plant Quarantine Act” and adding in their place the words “Plant Protection Act”.

89. In § 330.211, the section heading and paragraph (c), including footnote 2, are revised to read as follows:

§ 330.211 Labeling of plant pests for movement under permits.

* * * * *

(c) Misuse of labels. No labels unused in accordance with the terms of the permit may be used for the movement of any other plant pest. The Plant Protection Act provides for a penalty ² for the misuse of such labels. Any unauthorized movement of plant pests under a label will be refused by the inspector, and the plant pests may be destroyed or otherwise dealt with as set forth in § 330.106 if deemed necessary as an emergency measure.

² Section 424 of the Plant Protection Act (7 U.S.C. 7734) provides that persons who violate this act, or who forge, counterfeit or—without authority from the Secretary—use, alter, deface, or destroy any certificate, permit or other document may, after notice and opportunity for a hearing, be assessed a civil penalty that does not exceed the greater of: (a) $50,000 for individuals, except that the civil penalty may not exceed $1,000 in the case of an initial violation by an individual moving regulated articles not for monetary gain; $250,000 for any other person or legal entity, such as partnerships, corporations, associations, or joint ventures; and $500,000 for all violations adjudicated in a single proceeding; or (b) twice the gross pecuniary gain derived from or loss caused by any violation, forgery, counterfeiting, unauthorized use, defacing, or destruction of a certificate, permit, or other document provided for by this act. Section 424 of the Plant Protection Act also provides penalties for criminal violations, under which knowing violators of the act may be found guilty of a misdemeanor and, upon conviction, fined in accordance with title 18 of the United States Code, imprisoned for a period not to exceed 1 year, or both.

Subpart—Garbage

90. In § 330.400, paragraph (f) is revised to read as follows:

§ 330.400 Regulation of certain garbage.

* * * * *

(f) Restrictions on regulated garbage.

(1) Regulated garbage may not be disposed of, placed on, or removed from a means of conveyance except in accordance with this part.

(2) Regulated garbage is subject to general surveillance for compliance with this section by Animal and Plant Health Inspection Service inspectors and to disposal measures authorized by sections 414 and 421 of the Plant Protection Act (7 U.S.C. 7714 and 7731), section 2 of the Act of February 2, 1903, as amended (21 U.S.C. 111), and section 306 of the Act of July 17, 1930, as amended (19 U.S.C. 1306), to prevent the introduction and dissemination of pests and diseases of plants, livestock, and poultry.

* * * * *

PART 340—INTRODUCTION OF ORGANISMS AND PRODUCTS ALTERED OR PRODUCED THROUGH GENETIC ENGINEERING WHICH ARE PLANT PESTS OR WHICH THERE IS REASON TO BELIEVE ARE PLANT PESTS

91. The authority citation for part 340 is revised to read as follows:

Authority: 7 U.S.C. 166, 1622n, 7756, and 7761-7772; 31 U.S.C. 9701; 7 CFR 2.22, 2.80, and 371.3.

92. In § 340.0, footnotes 1 in paragraphs (a)(2) and 2 in paragraph (b) are revised to read as follows:

§ 340.0 Restrictions on the introduction of regulated articles.

(a) * * *

(2) * * *¹

¹ Part 340 regulates, among other things, the introduction of organisms and products altered or produced through genetic engineering that are plant pests or are believed to be plant pests. The introduction into the United States of such articles also may be subject to other regulations promulgated under the Plant Protection Act (7 U.S.C. 7701-7772) and found in 7 CFR parts 319, 330, and 360. For example, under regulations promulgated in “Subpart-Nursery Stock, Plants, Roots, Bulbs, Seeds, and Other Plant Products” (7 CFR 319.37-3), a permit is required for the importation of certain classes of nursery stock whether such stock is genetically engineered or not. Accordingly, individuals should refer to those regulations before importing any nursery stock.

(b)(2) * * *²

² An inspector may hold, seize, quarantine, treat, apply other remedial measures to, destroy, or otherwise dispose of plants, plant pests, or other articles in accordance with sections 411, 412, 421, and 434 of the Plant Protection Act (7 U.S.C. 7711, 7712, 7731, and 7754).

§ 340.3 [Amended]

93. In § 340.3, paragraph (b)(1) is amended by removing the words “Federal Noxious Weed Act (7 U.S.C. 2809)” and adding in their place the words “Plant Protection Act (7 U.S.C. 7712)”.

PART 351—IMPORTATION OF PLANTS OR PLANT PRODUCTS BY MAIL

94. The authority citation for part 351 is revised to read as follows:

Authority: 7 U.S.C. 7711-7714, 7721, 7754, and 7755; 7 CFR 2.22, 2.80, and 371.3.

95. Section 351.1 is revised to read as follows:

§ 351.1 Joint treatment generally.

The entry into the United States of certain plants, plant products, and soil is prohibited or restricted through various orders, quarantines, and regulations promulgated by the Administrator of the Animal and Plant Health Inspection Service (APHIS) under the authority of the Plant Protection Act (7 U.S.C. 7701-7772). To assist in enforcing the aforementioned orders, quarantines, and regulations, the Plant Protection and Quarantine Programs of APHIS have made provisions with the U.S. Postal and Customs Services to ensure closer inspection of prohibited or restricted imported articles.

PART 352—PLANT QUARANTINE SAFEGUARD REGULATIONS

96. The citation for part 352 is revised to read as follows:

Authority: 7 U.S.C. 2260, 7711-7714, 7731, and 7734; 21 U.S.C. 136 and 136a; 31 U.S.C. 9701; 7 CFR 2.22, 2.80, and 371.3.

97. Section 352.1 is amended as follows:

a. The paragraph designations for paragraphs (b)(1) through (b)(32) are removed and the defined terms are placed in alphabetical order.

b. The definitions for Plant Quarantine Act and The Federal Plant Pest Act are removed.

c. The definitions for Customs and Inspector are revised.

d. A definition for Plant Protection Act is added in alphabetical order.

The revisions and addition read as follows:

§ 352.1 Definitions.

* * * * *

(b) * * *

Customs. The U.S. Customs Service, Department of the Treasury, or, with reference to Guam, the Customs Office of the Government of Guam.

* * * * *

Inspector. A properly identified employee of the U.S. Department of Agriculture or other person authorized by the Department to enforce the provisions of the Plant Protection Act and related legislation, quarantines, and regulations.

* * * * *

Plant Protection Act. Title IV of Public Law 106-224, 114 Stat. 438, 7 U.S.C. 7701-7772, which was enacted June 20, 2000.

* * * * *

98. Section 352.2 is amended by revising paragraphs (a), (b), and (c)(1) to read as follows:

§ 352.2 Purpose; relation to other regulations; applicability.

(a) Importations of plants, plant products, plant pests, soil, and other products and articles that may be infested or infected by or contain plant pests or noxious weeds are exempt from the prohibitions or restrictions contained in parts 319 and 330 of this chapter if they meet one of the conditions in paragraphs (a)(1) through (a)(4) of this section and are moved into the United States and handled in compliance with this part. Provided: That these exemptions do not apply to cotton and covers imported into the United States from any country for exportation or transshipment and exportation or transportation and exportation as provided in §§ 319.8 through 319.8-26 of this chapter. Moreover, the applicable provisions of §§ 330.100 through 330.109 and 330.400 of this chapter also apply to products and articles subject to this part.

(1) They are brought in temporarily where loading and landing is not intended;

(2) They are unloaded or landed for transshipment and exportation;

(3) They are unloaded or landed for transportation and exportation; or

(4) They are intended for unloading and entry at a port other than the port of arrival.

(b) Prohibited or restricted products and articles offered for and refused entry into the United States under parts 319 or 330 of this chapter are subject to the applicable provisions in this part regarding their subsequent handling in this country.

(c)(1) The provisions in this part apply whether the controls over arrival, temporary stay, unloading, landing, transshipment and exportation, or transportation and exportation, or other movement or possession in the United States and Guam are maintained by entry or other procedures of the U.S. Customs Service, Department of the Treasury, or the Customs Office of the Government of Guam, respectively. Such provisions will apply to arrivals in the United States, including arrivals in a foreign trade zone in the United States to which admission is sought in accordance with the Customs regulations in 19 CFR chapter I. Prohibited or restricted products and articles that have entered the United States, been exported pursuant to this part, and returned to the United States are subject to the applicable requirements of this part upon reentry.

* * * * *

99. In § 352.3, paragraph (a) is revised to read as follows:

§ 352.3 Enforcement and administration.

(a) Plants, plant products, plant pests, soil, and other products and articles subject to the regulations in this part that are unloaded, landed, or otherwise brought or moved into or through the United States in violation of this part may be seized, destroyed, or otherwise disposed of in accordance with section 414 of the Plant Protection Act (7 U.S.C. 7714). Any person who unloads, lands, or otherwise brings or moves into or through the United States any regulated plants, plant products, plant pests, soil, or other products or articles in violation of this part will be subject to prosecution under the applicable provisions of law.

* * * * *

§ 352.5 [Amended]

100. In § 352.5, paragraph (d), is amended by removing the words “319, 321,” each time they appear and adding in their place the word “319”.

§§ 352.6 and 352.7 [Amended]

101. At the end of §§ 352.6 and 352.7, the statutory authority citation “(44 U.S.C. 35)” is removed.

§ 352.10 [Amended]

102. In § 352.10, paragraph (a), the third sentence; paragraph (b)(1), the second-to-last sentence; and paragraph (b)(2), the second sentence, are amended by removing the words “319, 321,” each time they appear and adding in their place the word “319”.

§ 352.13 [Amended]

103. In § 352.13, the first sentence is amended by removing the words “319, 321,” and adding in their place the word “319”.

PART 353—EXPORT CERTIFICATION

104. The authority citation for part 353 is revised to read as follows:

Authority: 7 U.S.C. 7711, 7712, 7718, 7751, and 7754; 21 U.S.C. 136 and 136a; 7 CFR 2.22, 2.80, and 371.3.

105. In § 353.1, the definition of The Act is revised to read as follows:

§ 353.1 Definitions.

* * * * *

The Act. Title IV of Public Law 106-224, 114 Stat. 438, 7 U.S.C. 7701-7772, which was enacted June 20, 2000.

PART 354—OVERTIME SERVICES RELATING TO IMPORTS AND EXPORTS; AND USER FEES

106. The authority citation for part 354 is revised to read as follows:

Authority: 7 U.S.C. 2260; 21 U.S.C. 136 and 136a; 49 U.S.C. 1741; 7 CFR 2.22, 2.80, and 371.3.

§ 354.1 [Amended]

107. Section 354.1 is amended by removing the statutory authority citation “(64 Stat. 561 (7 U.S.C. 2260) and sec. 15, Pub. L. 94-353 (49 U.S.C. 1741))” at the end of the section.

§ 354.3 [Amended]

108. In § 354.3, paragraph (a), the definition of Designated State or county inspector is amended by removing the words “Department of Agriculture Organic Act of 1944” and adding in their place the words “Plant Protection Act”.

PART 355—ENDANGERED SPECIES REGULATIONS CONCERNING TERRESTRIAL PLANTS

109. Part 355 is amended as follows:

a. By revising the authority citation to read as follows.

Authority: 16 U.S.C. 1532, 1538, and 1540; 7 CFR 2.22, 2.80, and 371.3.

b. In the part heading, by removing footnotes 1 and 2 and the references to them.

Subpart—Purpose and Definitions

110. Section 355.1 is revised to read as follows:

§ 355.1 Purpose.

Pursuant to the Endangered Species Act of 1973, as amended (16 U.S.C. 1531 et seq.), the Secretary is responsible for the enforcement of the provisions of the Act and Convention that pertain to the importation, exportation, or reexportation of terrestrial plants.¹ The regulations in this part are for the purpose of implementing this authority. Regulations of the U.S. Department of the Interior that correlate with the regulations in this part are contained in 50 CFR chapter I.²

¹ Under section 11 of the Act (16 U.S.C. 1540), it is unlawful for any person to knowingly violate any provision of the Act, any permit or certificate issued under the Act, or any regulation promulgated under the Act. Section 11 of the Act also provides for criminal, civil, and administrative penalties for any such violation.

² Plant Protection and Quarantine also administers programs under the Lacey Act Amendments of 1981, as amended (16 U.S.C. 3371 through 3378), 7 U.S.C. 2814, and the Plant Protection Act (7 U.S.C. 7701-7772), which authorize additional prohibitions and restrictions on the importation of plants subject to this part (see other parts of 7 CFR chapter III for regulations containing prohibitions and restrictions under these authorities).

111. In § 355.11, footnote 3 is revised to read as follows:

§ 355.11 General permits.³

* * * * *

³ This permit is named a “general permit” in order to avoid confusion with “permits” obtained under the Act from the U.S. Department of the Interior to accompany the importation, exportation, or reexportation of plants under U.S. Department of the Interior regulations. General permits are also so named to avoid confusion with permits obtained from Plant Protection and Quarantine for the importation of plants under the Plant Protection Act (7 U.S.C. 7701-7772) and 7 U.S.C. 2801 note and 7 U.S.C. 2814.

PART 356—FORFEITURE PROCEDURES

112. The authority citation for part 356 is revised to read as follows:

Authority: 16 U.S.C. 1540(f); 16 U.S.C. 3374; 7 CFR 2.22, 2.80, and 371.3.

PART 360—NOXIOUS WEED REGULATIONS

113. The authority citation for part 360 is revised to read as follows:

Authority: 7 U.S.C. 7711-7714, 7718, 7731, 7751, and 7754; 7 CFR 2.22, 2.80, and 371.3.

114. In § 360.200, the section heading and the introductory text are revised to read as follows:

§ 360.200 Designation of noxious weeds.

As authorized under section 412 of the Plant Protection Act (7 U.S.C. 7712), the Secretary of Agriculture has determined that the following plants ¹ or plant products fall within the definition of “noxious weed” as defined in section 403 of the Act (7 U.S.C. 7702(10)). Accordingly, the dissemination in the United States of the following plants or plant products may reasonably be expected to have the effects specified in section 403 of the Act:

¹ One or more of the common names of weeds are given in parentheses after most scientific names to help identify the weeds represented by such scientific names; however, a scientific name is intended to include all weeds within the genus or species represented by the scientific name, regardless of whether the common name or names are as comprehensive in scope as the scientific name.

* * * * *

§ 360.300 [Amended]

115. At the end of § 360.300, the statutory authority citation “(44 U.S.C. 35)” is removed.

PART 361—IMPORTATION OF SEED AND SCREENINGS UNDER THE FEDERAL SEED ACT

116. The authority citation for part 361 is revised to read as follows:

Authority: 7 U.S.C. 1581-1610; 7 CFR 2.22, 2.80, and 371.3.

PART 371—ORGANIZATION, FUNCTIONS, AND DELEGATIONS OF AUTHORITY

117. The authority citation for part 371 continues to read as follows:

Authority: 5 U.S.C. 301.

118. Section 371.3 is amended as follows:

a. By removing paragraphs (b)(2)(i) through (b)(2)(v).

b. By redesignating paragraphs (b)(2)(vi) through (b)(2)(xv) as paragraphs (b)(2)(i) through (b)(2)(x), respectively.

c. By revising newly redesignated paragraph (b)(2)(iii).

d. By revising newly redesignated paragraph (b)(2)(v).

e. By removing the periods at the end of newly redesignated paragraphs (b)(2)(ix) and (b)(2)(x) and adding semicolons in their place.

f. By adding new paragraph (b)(2)(xi).

The revisions and additions read as follows:

§ 371.3 Plant Protection and Quarantine.

* * * * *

(b) * * *

(2) * * *

(iii) Sections 1 and 15 of the Federal Noxious Weed Act of 1974 (7 U.S.C. 2801 note and 7 U.S.C. 2814);

* * * * *

(v) Executive Order 13112;

* * * * *

(xi) Authority to collect reimbursement for overtime paid to employees for inspection or quarantine services (7 U.S.C. 2260).

* * * * *

PART 372—NATIONAL ENVIRONMENTAL POLICY ACT IMPLEMENTING PROCEDURES

119. The authority citation for part 372 is revised to read as follows:

Authority: 42 U.S.C. 4321 et seq.; 40 CFR parts 1500-1508; 7 CFR parts 1b, 2.22, 2.80, and 371.9.

PART 380—RULES OF PRACTICE GOVERNING PROCEEDINGS UNDER CERTAIN ACTS

120. The authority citation for part 380 is revised to read as follows:

Authority: 7 U.S.C. 7702-7772; 16 U.S.C. 1540(a), 3373(a) and (b); 7 CFR 2.22, 2.80, and 371.3.

Subpart A—General

121. Section 380.1 is revised to read as follows:

§ 380.1 Scope and applicability of rules of practice.

(a) The Uniform Rules of Practice for the Department of Agriculture promulgated in subpart H of part 1, subtitle A, title 7 CFR are the Rules of Practice applicable to adjudicatory administrative proceedings under the following statutory provisions:

(1) The Plant Protection Act, section 424 (7 U.S.C. 7734),

(2) Endangered Species Act Amendments of 1973, as amended, section 11(a), 16 U.S.C. 1540(a), and

(3) Lacey Act Amendments of 1981, as amended, section 4(a) and (b), (16 U.S.C. 3373 (a) and (b)).

(b) In addition, the Supplemental Rules of Practice set forth in subpart B of this part are applicable to such proceedings.

TITLE 9—ANIMALS AND ANIMAL PRODUCTS

PART 1—DEFINITIONS OF TERMS

PART 2—REGULATIONS

122. The authority citation for parts 1 and 2 is revised to read as follows:

Authority: 7 U.S.C. 2131-2159; 7 CFR 2.22, 2.80, and 371.7.

PART 11—HORSE PROTECTION REGULATIONS

123. The authority citation for part 11 is revised to read as follows:

Authority: 15 U.S.C. 1823-1825 and 1828; 44 U.S.C. 3506; 7 CFR 2.22, 2.80, and 371.7.

PART 49—RULES OF PRACTICE GOVERNING PROCEEDINGS UNDER CERTAIN ACTS

124. The authority citation for part 49 is revised to read as follows:

Authority: 21 U.S.C. 111-114, 114a, 114a-1, 115, 117, 120, 122, 123, 125-127, 134b, 134c, 134e, and 134f; 7 CFR 2.22, 2.80, and 371.4.

PART 50—ANIMALS DESTROYED BECAUSE OF TUBERCULOSIS

125. The authority citation for part 50 is revised to read as follows:

Authority: 21 U.S.C. 111-114, 114a, 114a-1, 120, 121, 125, and 134b; 7 CFR 2.22, 2.80, and 371.4.

§ 50.3 [Amended]

126. At the end of § 50.3, the statutory authority citation beginning with the words “(Secs. 3, 4, 5, 11, and 13,” and ending with the words “7 CFR 2.17, 2.51, and 317.2(d))” is removed.

§ 50.16 [Amended]

127. In § 50.16, paragraph (a)(4), including footnote 1, is revised to read as follows:

§ 50.16 Certain cattle on the Island of Molokai in Hawaii.

(a) * * *

(4) The purchaser of the exposed cattle has entered into a compliance agreement ¹ with APHIS, which specifies that the cattle will be moved under permit directly from the premises of origin to the quarantined feedlot. Upon movement from the quarantined feedlot, the cattle will either be shipped under permit directly to a Federal or State-inspected slaughtering establishment for slaughter, or the cattle will be disposed of by rendering, burial, or incineration in an approved manner under the supervision of an APHIS or State employee. Exposed cattle are not to be sold prior to destruction unless the purchaser enters into a compliance agreement agreeing to the provisions in this paragraph.

¹ Compliance Agreement forms are available without charge from the Animal and Plant Health Inspection Service, Veterinary Services, National Animal Health Programs, 4700 River Road, Unit 43, Riverdale, Maryland 20737-1231, and from local offices of APHIS' Veterinary Services program. (Local offices are listed in telephone directories.)

* * * * *

PART 51—ANIMALS DESTROYED BECAUSE OF BRUCELLOSIS

128. The authority citation for part 51 is revised to read as follows:

Authority: 21 U.S.C. 111-114, 114a, 114a-1, 120, 121, 125, and 134b; 7 CFR 2.22, 2.80, and 371.4.

129. Section 51.1 is amended as follows:

a. By revising footnote 1 in the definition of Recognized slaughtering establishment.

b. At the end of the section, by removing the statutory authority citation beginning with the words “(Secs. 3, 4, 5, 11, and 13,” and ending with the words “7 CFR 2.17, 2.51, and 371.2 (d))”.

The revision reads as follows:

§ 51.1 Definitions.

* * * * *

Recognized slaughtering establishment.* * * ¹

¹ A list of recognized slaughtering establishments is available upon request from the Animal and Plant Health Inspection Service, 4700 River Road Unit 37, Riverdale, MD 20737-1231.

PARTS 52 AND 53 [Amended]

130. The authority citation for part 52 is revised to read as follows:

Authority: 21 U.S.C. 111-113, 114, 114a, 114a-1, 120, 121, 125, and 134b; and 7 CFR 2.22, 2.80, and 371.4.

130a. The authority citation for part 53 is revised to read as follows:

Authority: 21 U.S.C. 111, 114, and 114a; 7 CFR 2.22, 2.80, and 371.4.

PART 54—CONTROL OF SCRAPIE

131. The authority citation for part 54 is revised to read as follows:

Authority: 21 U.S.C. 111, 114, 114a, and 134a-134h; 7 CFR 2.22, 2.80, and 371.4.

132. In § 54.1, in the definition of Uniform methods and rules—voluntary scrapie flock certification, footnote 1 is revised to read as follows.

§ 54.1 Definitions.

* * * * *

Uniform methods and rules voluntary scrapie flock certification.* * *¹

¹ Copies of the UM&R are available from the Animal and Plant Health Inspection Service, Veterinary Services, National Animal Health Programs, 4700 River Road Unit 43, Riverdale, MD 20737-1231, or from the American Sheep Industry Association, Inc., Producer Services, 6911 S. Yosemite Street, Suite 200, Englewood, CO 80112-1414, telephone (303) 771-3500.

PART 70—RULES OF PRACTICE GOVERNING PROCEEDINGS UNDER CERTAIN ACTS

133. The authority citation for part 70 is revised to read as follows:

Authority: 21 U.S.C. 111-114, 114a, 114a-1, 115, 117, 120, 122, 123, 125-127, 134b, 134c, 134e, and 134f; 7 CFR 2.22, 2.80, and 371.4.

PART 71—GENERAL PROVISIONS

134. The authority citation for part 71 is revised to read as follows:

Authority: 21 U.S.C. 111-113, 114a, 114a-1, 115-117, 120-126, 134b, and 134f; 7 CFR 2.22, 2.80, and 371.4.

PART 72—TEXAS (SPLENETIC) FEVER IN CATTLE

135. The authority citation for part 72 is revised to read as follows:

Authority: 21 U.S.C. 111-113, 115, 117, 120, 121, 123-126, 134b, and 134f; 7 CFR 2.22, 2.80, and 371.4.

136. Section 72.6, including footnote 3, is revised to read as follows:

§ 72.6 Interstate movement of cattle from quarantined areas not eradicating ticks.

Cattle in quarantined areas where tick eradication is not being conducted³ may be shipped or transported interstate in accordance with §§ 72.9 through 72.15 under the following conditions: The cattle must have been dipped twice with a permitted dip as provided in § 72.13, with an interval of 7 to 12 days between dippings immediately preceding shipment, at a designated dipping station approved under § 72.16 and located in the State of origin of the shipment or, in specific cases, after having been otherwise treated at a designated dipping station under the supervision of an APHIS inspector and in a manner approved by the Administrator. In all cases, the cattle must be inspected by an APHIS inspector just prior to final dipping, found to be apparently free of ticks, and be certified as such by APHIS before the cattle may be released for interstate movement.

³ Information regarding the identities of such areas may be obtained from the Animal and Plant Health Inspection Service, Veterinary Services, National Animal Health Programs, 4700 River Road Unit 43, Riverdale, MD 20737-1231.

137. In § 72.13, paragraph (a), footnote 4 is revised to read as follows:

§ 72.13 Permitted dips and procedures.

(a) * * *⁴

⁴ Care is required when treating animals and in maintaining the required concentration of chemicals in dipping baths. Detailed information concerning the use of, criteria for, and names of proprietary brands of permitted dips—as well the use of compressed air, vat management techniques, and other information—is available from the Animal and Plant Health Inspection Service, Veterinary Services, National Animal Health Programs, 4700 River Road Unit 43, Riverdale, MD 20737-1231.

PART 73—SCABIES IN CATTLE

138. The authority citation for part 73 is revised to read as follows:

Authority: 21 U.S.C. 111-113, 115, 117, 120, 121, 123-126, 134b, and 134f; 7 CFR 2.22, 2.80, and 371.4.

§§ 73.2, 73.3, 73.5, 73.6, and 73.12 [Amended]

139. At the end of §§ 73.2, 73.3, 73.5, 73.6, and 73.12, the statutory authority citation beginning with the words “(Secs. 4-7, 23 Stat. 32, as amended;” and ending with the words “7 CFR 2.17, 2.51, and 371.2 (d))” is removed.

PART 74—PROHIBITION OF INTERSTATE MOVEMENT OF LAND TORTOISES

140. The authority citation for part 74 is revised to read as follows:

Authority: 21 U.S.C. 111-113, 114a, 115, 117, 120, 122-126, 134b, 134f; 7 CFR 2.22, 2.80, and 371.4.

PART 75—COMMUNICABLE DISEASES IN HORSES, ASSES, PONIES, MULES, AND ZEBRAS

141. The authority citation for part 75 is revised to read as follows:

Authority: 21 U.S.C. 111-113, 115, 117, 120, 121, 123-126, and 134-134h; 7 CFR 2.22, 2.80, and 371.4.

§ 75.4 [Amended]

142. In § 75.4, footnotes 1 in the definition of Officially identified, 2 in paragraph (c)(1)(v), and 3 in paragraph (c)(2) are amended by removing the words “Sheep, Goat, Equine, and Poultry Diseases” and adding in their place the words “National Animal Health Programs”.

PART 79—SCRAPIE IN SHEEP AND GOATS

143. The authority citation for part 79 is revised to read as follows:

Authority: 21 U.S.C. 111-113, 115, 117, 120, 121, 123-126, 134b, and 134f; 7 CFR 2.22, 2.80, and 371.4.

§ 79.2 [Amended]

144. In § 79.2, paragraph (a)(2), introductory text, footnote 1 is amended by removing the words “Sheep, Goat, Equine, and Poultry Diseases” and adding in their place the words “National Animal Health Programs”.

§ 79.3 [Amended]

145. In § 79.3, paragraph (b), footnote 2 is amended by removing the words “Sheep, Goat, Equine, and Poultry Diseases,” and adding in their place the words “National Animal Health Programs”.

PART 80—JOHNE'S DISEASE IN DOMESTIC ANIMALS

146. The authority citation for part 80 is revised to read as follows:

Authority: 21 U.S.C. 111-113, 114a-1, 115, 117, 120, 121, and 125; 7 CFR 2.22, 2.80, and 371.4.

PART 82—EXOTIC NEWCASTLE DISEASE (END) AND CHLAMYDIOSIS; POULTRY DISEASE CAUSED BY SALMONELLA ENTERITIDIS SEROTYPE ENTERITIDIS

147. The authority citation for part 82 is revised to read as follows:

Authority: 21 U.S.C. 111-113, 115, 117, 120, 123-126, 134a, 134b, and 134f; 7 CFR 2.22, 2.80, and 371.4.

Subpart C—Poultry Disease Caused by Salmonella Enteritidis Serotype Enteritidis

148. In § 82.30, the definition of Authorized laboratory is amended as follows:

a. In the first undesignated paragraph, by removing the words “c/o Sheep, Goat, Equine, and Poultry Diseases Staff, Veterinary Services, U.S. Department of Agriculture, Federal Building, 6505 Belcrest Road, Hyattsville, Maryland 20782” and adding in their place the words “Veterinary Services, Center for Planning, Certification, and Monitoring, 4700 River Road Unit 46, Riverdale, MD 20737-1231”.

b. By revising footnote 1 in paragraph (8) to read as follows:

§ 82.30 Definitions.

* * * * *

Authorized laboratory.

* * *

(8)* * *

¹Training requirements, standard test protocols, and check test proficiency requirements prescribed by the National Veterinary Services Laboratories and the names and addresses of authorized laboratories are available from the Animal and Plant Health Inspection Service, Veterinary Services, Center for Planning, Certification, and Monitoring, 4700 River Road Unit 46, Riverdale, MD 20737-1231.

§ 82.32 [Amended]

149. In § 82.32, footnote 2 is amended by removing the words “Sheep, Goat, Equine, and Poultry Diseases, 4700 River Road Unit 43” and adding in their place the words “Center for Planning, Certification, and Monitoring, 4700 River Road Unit 46”.

§ 82.33 [Amended]

150. In § 82.33, paragraph (a)(2), footnote 4 is amended by removing the words “Sheep, Goat, Equine, and Poultry Diseases, 4700 River Road Unit 43” and adding in their place the words “Center for Planning, Certification, and Monitoring, 4700 River Road Unit 46”.

§ 82.37 [Amended]

151. In § 82.37, footnote 7 is amended by removing the words “Sheep, Goat, Equine, and Poultry Diseases, 4700 River Road Unit 43” and adding in their place the words “Center for Planning, Certification, and Monitoring, 4700 River Road Unit 46”.

PART 85—PSEUDORABIES

152. The authority citation for part 85 is revised to read as follows:

Authority: 21 U.S.C. 111-113, 115, 117, 120, 121, 123-126, 134b, and 134f; 7 CFR 2.22, 2.80, and 371.4.

§ 85.1 [Amended]

153. In § 85.1, in the definition of Approved differential pseudorabies test, footnote 1 is amended by removing the words “Swine Health, 4700 River Road Unit 37” and adding in their place the words “Operational Support, 4700 River Road Unit 33”.

PART 89—STATEMENT OF POLICY UNDER THE TWENTY-EIGHT HOUR LAW

154. The authority citation for part 89 is revised to read as follows:

Authority: 34 Stat. 607; 45 U.S.C. 71-74; 19 FR 74, as amended; 7 CFR 2.22, 2.80, and 371.4.

PART 91—INSPECTION AND HANDLING OF LIVESTOCK FOR EXPORTATION

155. The authority citation for part 91 is revised to read as follows:

Authority: 21 U.S.C. 105, 112, 113, 114a, 120, 121, 134b, 134f, 136, 136a, 612, 613, 614, and 618; 46 U.S.C. 466a and 466b; 49 U.S.C. 1509(d); 7 CFR 2.22, 2.80, and 371.4.

PART 92—IMPORTATION OF ANIMALS AND ANIMAL PRODUCTS: PROCEDURES FOR REQUESTING RECOGNITION OF REGIONS

155a. The authority citation for part 92 is revised to read as follows:

Authority: 7 U.S.C. 1622; 19 U.S.C. 1306; 21 U.S.C. 102-105, 111, 114a, 134a, 134b, 134c, 134d, 134f, 135, 136, and 136a; 31 U.S.C. 9701; 7 CFR 2.22, 2.80, and 371.4.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

156. The authority citation for part 94 is revised to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

157. In § 94.5, paragraph (e)(2) is revised to read as follows:

§ 94.5 Regulation of certain garbage.

* * * * *

(e) * * *

(2) To prevent the dissemination of plant pests and livestock or poultry diseases, regulated garbage is subject to general surveillance for compliance with this section by Animal and Plant Health Inspection Service inspectors and to disposal measures authorized by sections 414, 421, and 434 of the Plant Protection Act (7 U.S.C. 7714, 7731, and 7754), section 2 of the Act of February 2, 1903, as amended (21 U.S.C. 111), and section 306 of the Act of July 17, 1930, as amended (19 U.S.C. 1306).

* * * * *

PART 95—SANITARY CONTROL OF ANIMAL BYPRODUCTS (EXCEPT CASINGS) AND HAY AND STRAW OFFERED FOR ENTRY INTO THE UNITED STATES

158. The authority citation for part 95 is revised to read as follows:

Authority: 21 U.S.C. 111, 136, and 136a; 31 U.S.C. 9701; 7 CFR 2.22, 2.80, and 371.4

PART 96—RESTRICTION OF IMPORTATION OF FOREIGN ANIMAL CASINGS OFFERED FOR ENTRY INTO THE UNITED STATES

158a. The authority citation for part 96 is revised to read as follows:

Authority: 21 U.S.C. 111, 136, and 136a; 7 CFR 2.22, 2.80, and 371.4.

PART 97—OVERTIME SERVICES RELATING TO IMPORTS AND EXPORTS

158b. The authority citation for part 97 is revised to read as follows:

Authority: 7 U.S.C. 2260; 49 U.S.C. 1741; 7 CFR 2.22, 280, and 371.4.

PART 98—IMPORTATION OF CERTAIN ANIMAL EMBRYOS AND ANIMAL SEMEN

158c. The authority citation for part 98 is revised to read as follows:

Authority: 7 U.S.C. 1622; 19 U.S.C. 1306; 21 U.S.C. 103-105, 111, 134a, 134b, 134c, 134d, 134f, 136 and 136a; 31 U.S.C.

PART 99—RULES OF PRACTICE GOVERNING PROCEEDINGS UNDER CERTAIN ACTS

159. The authority citation for part 99 is revised to read as follows:

Authority: 21 U.S.C. 102-105, 111, 112, 114a, 117, 120, 122, 134b, 134c, 134e, 134f, 135, and 135a; 7 CFR 2.22, 2.80, and 371.4.

PART 101—DEFINITIONS

PART 102—LICENSES FOR BIOLOGICAL PRODUCTS

160. The authority citation for parts 101 and 102 is revised to read as follows:

Authority: 21 U.S.C. 151-159; 7 CFR 2.22, 2.80, and 371.4.

PART 103—EXPERIMENTAL PRODUCTION, DISTRIBUTION, AND EVALUATION OF BIOLOGICAL PRODUCTS PRIOR TO LICENSING

161. The authority citation for part 103 is revised to read as follows:

Authority: 21 U.S.C. 151-159; 7 CFR 2.22, 2.80, and 371.4.

§ 103.2 [Amended]

162. At the end of § 103.2, the statutory authority citation “(44 U.S.C. 3506)” is removed.

PART 104—PERMITS FOR BIOLOGICAL PRODUCTS

PART 105—SUSPENSION, REVOCATION, OR TERMINATION OF BIOLOGICAL LICENSES OR PERMITS

163. The authority citation for parts 104 and 105 is revised to read as follows:

Authority: 21 U.S.C. 151-159; 7 CFR 2.22, 2.80, and 371.4.

PART 106—EXEMPTION FOR BIOLOGICAL PRODUCTS USED IN DEPARTMENT PROGRAMS OR UNDER DEPARTMENT CONTROL OR SUPERVISION

164. The authority citation for part 106 is revised to read as follows:

Authority: 21 U.S.C. 151-159; 7 CFR 2.22, 2.80, and 371.4.

PART 107—EXEMPTIONS FROM PREPARATION PURSUANT TO AN UNSUSPENDED AND UNREVOKED LICENSE

PART 108—FACILITY REQUIREMENTS FOR LICENSED ESTABLISHMENTS

PART 109—STERILIZATION AND PASTEURIZATION AT LICENSED ESTABLISHMENTS

PART 112—PACKAGING AND LABELING

PART 113—STANDARD REQUIREMENTS

PART 114—PRODUCTION REQUIREMENTS FOR BIOLOGICAL PRODUCTS

165. The authority citation for parts 107-109 and 112-114 is revised to read as follows:

Authority: 21 U.S.C. 151-159; 7 CFR 2.22, 2.80, and 371.4.

PART 115—INSPECTIONS

166. The authority citation for part 115 is revised to read as follows:

Authority: 21 U.S.C. 151-159; 7 CFR 2.22, 2.80, and 371.4.

PART 116—RECORDS AND REPORTS

167. The authority citation for part 116 is revised to read as follows:

Authority: 21 U.S.C. 151-159; 7 CFR 2.22, 2.80, and 371.4.

§§ 116.1, 116.2, 116.3, 116.4, and 116.6 [Amended]

168. At the end of §§ 116.1, 116.2, 116.3, 116.4, and 116.6, the statutory authority citation “(44 U.S.C. 3506)” is removed.

PART 117—ANIMALS AT LICENSED ESTABLISHMENTS

PART 118—DETENTION, SEIZURE, AND CONDEMNATION

169. The authority citation for parts 117 and 118 is revised to read as follows:

Authority: 21 U.S.C. 151-159; 7 CFR 2.22, 2.80, and 371.4.

PART 122—ORGANISMS AND VECTORS

170. The authority citation for part 122 is revised to read as follows:

Authority: 21 U.S.C. 111 and 151-158; 7 CFR 2.22, 2.80, and 371.4.

PART 123—RULES OF PRACTICE GOVERNING PROCEEDINGS UNDER THE VIRUS-SERUM-TOXIN ACT

171. The authority citation for part 123 is revised to read as follows:

Authority: 21 U.S.C. 111 and 151-159; 7 CFR 2.22, 2.80, and 371.4.

PART 124—PATENT TERM RESTORATION

172. The authority citation for part 124 is revised to read as follows:

Authority: 35 U.S.C. 156; 7 CFR 2.22, 2.80, and 371.4.

PART 145—NATIONAL POULTRY IMPROVEMENT PLANT

PART 147—AUXILIARY PROVISIONS ON NATIONAL POULTRY IMPROVEMENT PLAN

172a. The authority citation for parts 145 and 147 is revised to read as follows:

Authority: 7 U.S.C. 429; 7 CFR 2.22, 2.80, and 371.4.

PART 151—RECOGNITION OF BREEDS AND BOOKS OF RECORDS OF PUREBRED ANIMALS

172b. The authority citation for part 151 is revised to read as follows:

Authority: 19 U.S.C. 1202; 7 CFR 2.22, 2.80, and 371.4.

PART 156—VOLUNTARY INSPECTION AND CERTIFICATION SERVICE

172c. The authority citation for part 156 is revised to read as follows:

Authority: 7 U.S.C. 1622 and 1624; 21 U.S.C. 136a; 7 CFR 2.22, 2.80, and 371.4.

PART 160—DEFINITION OF TERMS

PART 161—REQUIREMENTS AND STANDARDS FOR ACCREDITED VETERINARIANS AND SUSPENSION OR REVOCATION OF SUCH ACCREDITATION

PART 162—RULES OF PRACTICE GOVERNING REVOCATION OR SUSPENSION OF VETERINARIANS' ACCREDITATION

172d. The authority citation for parts 160, 161, and 162 is revised to read as follows:

Authority: 15 U.S.C. 1828; 21 U.S.C. 105, 111-114, 114a, 114a-1, 115, 116, 120, 121, 125, 134b, 134f, 612, and 613; 7 CFR 2.22, 2.80, and 371.4. 9701; 7 CFR 2.22, 2.80, and 371.4.

PART 166—SWINE HEALTH PROTECTION

173. The authority citation for part 166 is revised to read as follows:

Authority: 7 U.S.C. 3802-3804, 3808, 3809, and 3811; 7 CFR 2.22, 2.80, and 371.4.

§§ 166.1, 166.2, and 166.10 [Amended]

174. At the end of §§ 166.1, 166.2, and 166.10, the statutory authority citation beginning with the words “(Sec. 511,” and ending with the words “7 CFR 2.17, 2.51, and 371.2(d))” is removed.

PART 167—RULES OF PRACTICE GOVERNING PROCEEDINGS UNDER THE SWINE HEALTH PROTECTION ACT

175. The authority citation for part 167 is revised to read as follows:

Authority: 7 U.S.C. 3804, 3805, and 3811; 7 CFR 2.22, 2.80, and 371.4.

Done in Washington, DC, this 16th day of April 2001.
Bobby R. Acord,
Acting Administrator, Animal and Plant Health Inspection Service.

[FR Doc. 01-9797 Filed 4-26-01; 8:45 am]

BILLING CODE 3410-34-U